DEPARTMENT OF COMMERCE

National Institute of Standards and Technology

National Conference on Weights and Measures 94th Interim Meeting

AGENCY: National Institute of Standards and Technology, Commerce.

ACTION: Notice.

SUMMARY: The Interim Meeting of the 94th National Conference on Weights and Measures (NCWM) will be held January 11 to 14, 2009. Publication of this notice on the NCWM's behalf is undertaken as a public service; NIST does not endorse, approve, or recommend any of the proposals contained in this notice or in the publications of the NCWM mentioned below. The meetings are open to the public but registration is required. Registration information is stated in the FOR FURTHER INFORMATION CONTACT section below.

DATES: The meeting will be held on January 11-14, 2009.

ADDRESSES: The meeting will be held at the Hilton Daytona Beach Oceanfront Resort, 100 North Atlantic Avenue, Daytona Beach, Florida 32118.

FOR FURTHER INFORMATION CONTACT: Carol Hockert, Chief, NIST, Weights and Measures Division, 100 Bureau Drive, Stop 2600, Gaithersburg, MD 20899-2600 or by telephone (301) 975-5507 or by e-mail at Carol.Hockert@nist.gov. Please see the NCWM Publication 15, which contains detailed meeting agendas, registration forms and hotel reservation information, at http://www.ncwm.net or http://www.nist.gov/owm on the Internet.

SUPPLEMENTARY INFORMATION: The NCWM is an organization of weights and measures officials of the states, counties, and cities of the United States, federal agencies, and private sector representatives. These meetings bring together government officials and representatives of business, industry, trade associations, and consumer organizations on subjects related to the field of weights and measures technology, administration and enforcement. NIST participates to promote uniformity among the states in laws, regulations, methods, and testing equipment that comprise the regulatory control of commercial weighing and measuring devices and other practices used in trade and commerce.

The following are brief descriptions of some of the significant agenda items that will be considered along with other issues at the NCWM Interim Meeting. Comments will be taken on these and other issues during several public comment sessions. At this stage, the items are proposals. This meeting also includes work sessions in which the Committees may also accept comments and where they will finalize recommendations for NCWM consideration and possible adoption at its Annual Meeting to be held July 12 to 16, 2009, in San Antonio, Texas. The Committees may withdraw or carryover items that need additional development.

The Specifications and Tolerances Committee (S&T Committee) will consider proposed amendments to NIST Handbook 44, “Specifications, Tolerances, and other Technical Requirements for Weighing and Measuring Devices (NIST Handbook 44).” Those items address weighing and measuring devices used in commercial applications, that is, devices that are normally used to buy from or sell to the public or used for determining the quantity of product sold among businesses.

Issues on the agenda of the NCWM Laws and Regulations Committee (L&R Committee) relate to proposals to amend NIST Handbook 130, “Uniform Laws and Regulations in the area of legal metrology and engine fuel quality” and NIST Handbook 133 “Checking the Net Contents of Packaged Goods.”

This notice contains information about significant items on the NCWM Committee agendas, but does not include all agenda items. As a result, the following items are not consecutively numbered.

NCWM Specifications and Tolerances Committee

The following items are proposals to amend NIST Handbook 44:

General Code

Item 310-1. G-S.8. Provision for Sealing Electronic Adjustable Components, G-S.8.1. Access to Calibration and Configuration Adjustments, and G-S.8.2.—The S&T Committee will consider a proposal to add new requirements to G-S.8. intended to improve the security of access to the calibration and other configuration features on weighing or measuring devices. The purpose of the proposal is to ensure that prohibited features cannot be activated or that the accuracy of the device is altered after an official applies security seals or approved means of providing security.

Item 310-5. G-T.1. Acceptance Tolerances—The S&T Committee will consider a proposal to amend regulations that specify when officials are to apply acceptance tolerances to weighing and measuring devices after service personnel or users have made metrological adjustments and resealed the instrument. The proposed amendment would require that officials apply acceptance tolerances if they test the device within 30 days following any adjustment that relates to the accuracy or other performance characteristic of a device.

Scales Code

Item 320-3. S.1.7. Automatic Zero-Setting Mechanism (AZSM)—The S&T Committee will consider a proposal to define the acceptable operating parameters of the zero-setting functions used on some electronic weighing devices. These functions automatically maintain a scale's indications at zero when no load is on the device. Existing NIST Handbook 44 requirements prohibit some of the zero-setting functions found on weighing devices designed and sold for use in other countries when those devices are used in commercial applications in the U.S. marketplace. The proposal will closely align the U.S. requirements with international recommendations published by the International Organization for Legal Metrology (OIML).

Liquid-Measuring Devices Code

Item 330-1. Temperature Compensation for Liquid-Measuring Devices Code.—This is a proposal to add provisions to Handbook 44 to allow retail motor-fuel dispensers to be equipped with the automatic means to deliver product with the volume compensated to a reference temperature. (See also Item 232-1 below under the Laws and Regulations Committee)

NCWM Laws and Regulations Committee

The following items are proposals to amend NIST Handbook 130:

Method of Sale of Commodities Regulation

Item 232-1. Automatic Temperature Compensation for Petroleum Products.—The L&R Committee will consider several proposals that would allow temperature compensation to be made on sales of engine fuels at the retail level. Most of the proposals would allow compensation to be performed only if certain information is provided to consumers and other conditions are met by the seller.

Developing Item 270-7. Method of Sale and Engine Fuel Quality Requirements for Hydrogen.—The L&R Committee will consider a proposal to establish a uniform method of sale for hydrogen when it is offered for sale at the retail level as a vehicle fuel. A separate proposal to identifying preliminary minimum fuel quality standards will also be reviewed.

Developing Item 270-8. Wood Flavoring Chips.—The L&R Committee will consider a proposal to revise the current method of sale regulation on flavoring chips by adding guidance on the appropriate units of measure to be used on small packages.

Uniform Engine Fuel and Automotive Lubricants Regulation

Item 237-1. Gasoline and Gasoline Oxygenate Blends.—The Fuel and Lubricants Subcommittee of the L&R Committee will present a proposed revision to the requirements that certain blends must meet under NIST Handbook 130.

The following item is a proposal to amend NIST Handbook 133 “Checking the Net Contents of Packaged Goods”:

Item 260-1. Wet Tare Testing.—The L&R Committee will review a proposed editorial revision to the tare procedures in NIST Handbook 133 to advise handbook users that effective October 9, 2008, the USDA regulations no longer permit wet tare procedures to be used in verifying the net quantity of contents of packages of meat and poultry that bear a USDA inspection seal.

Dated: December 15, 2008.
Patrick Gallagher,
Deputy Director.

[FR Doc. E8-30247 Filed 12-18-08; 8:45 am]

BILLING CODE 3510-13-P